DEPARTMENT OF HOMELAND SECURITY

Coast Guard

33 CFR Part 165

[Docket Number: USCG-2021-0381]

Safety Zone; Recurring Events in Captain of the Port Duluth Zone—Pointe to La Pointe Swim, Bayfield, WI

AGENCY: Coast Guard, Department of Homeland Security (DHS).

ACTION: Notice of enforcement of regulation.

SUMMARY: The Coast Guard will enforce the safety zone for the Pointe to La Pointe Swim event in Bayfield, WI, from 7 a.m. through 11 a.m. on August 7, 2021. This action is necessary to protect participants and spectators during the event. During the enforcement period, entry into, transiting, or anchoring within the safety zone is prohibited unless authorized by the Captain of the Port Duluth or a designated on-scene representative.

DATES: The regulations in 33 CFR 165.943(a) will be enforced for the location listed in Table 1 to § 165.943, entry (9), from 7 a.m. through 11 a.m. on August 7, 2021.

FOR FURTHER INFORMATION CONTACT: If you have questions about this notice of enforcement, call or email MST2 Jeremy Davis, telephone (218)725-3818, email DuluthWWM@uscg.mil.

SUPPLEMENTARY INFORMATION: The Coast Guard will enforce special local regulations in 33 CFR 165.943(a) for the location listed in Table 1 to § 165.943, entry (9), for the annual Pointe to La Pointe Swim event from 7 a.m. through 11 a.m. on August 7, 2021 on all waters between Bayfield, WI, and Madeline Island, WI, within an imaginary line created by the following coordinates: 46°48′27.55″ N, 090°48′56°.86″ W, moving southeast to 46°48′21.2″ N, 090°48′59.9″ W, moving south to 46°47′19.91″ N, 090°49′46.18″ W, moving east 46′47′21.18″ N, 090°49′02.39″ W, then moving north to 46°48′21.20″ N, 090°48′56.86″ W and finally running back to the starting point. Pursuant to 33 CFR 165.33 and 165.943(a), entry into, transiting, or anchoring within the safety zone is prohibited unless authorized by the Captain of the Port Duluth or a designated on-scene representative. Vessels and personnel granted permission to enter the safety zone shall obey the directions of the Captain of the Port Duluth, their designated representative, or any Official Patrol displaying a Coast Guard Ensign.

This notice of enforcement is issued under authority of 33 CFR 165.943 and 5 U.S.C. 552 (a). In addition to this publication in the Federal Register, the Coast Guard will provide the maritime community with advance notification of the enforcement of this enforcement period via Broadcast Notice to Mariners or other suitable means. The Captain of the Port Duluth may be contacted via Channel 16, VFH-FM or at (218) 428-9357.

Dated: July 19, 2021.
F.M. Smith,
Commander, U.S. Coast Guard, Captain of the Port.

[FR Doc. 2021-15650 Filed 7-22-21; 8:45 am]

BILLING CODE 9110-04-P